DEPARTMENT OF AGRICULTURE

Rural Business-Cooperative Service

Information Collection Activity; Comment Request

AGENCY: Rural Business-Cooperative Service, USDA.

ACTION: Notice and request for comments.

SUMMARY: In accordance with the Paperwork Reduction Act of 1995, the United States Department of Agriculture (USDA) Rural Business-Cooperative Service's (RBS) invites comments on this information collection of the Intermediary Relending Program (IRP), for which the Agency intends to request approval from the Office of Management and Budget (OMB).

DATES: Comments on this notice must be received by February 4, 2019.

FOR FURTHER INFORMATION CONTACT: Thomas P. Dickson, Rural Development Innovation Center, 1400 Independence Avenue SW, STOP 1522, Room 5164, South Building, Washington, DC 20250-1522. Telephone: (202) 690-4492. Email: Thomas.Dickson@wdc.usda.gov.

SUPPLEMENTARY INFORMATION: The Office of Management and Budget's (OMB) regulation (5 CFR 1320) implementing provisions of the Paperwork Reduction Act of 1995 (Pub. L. 104-13) requires that interested members of the public and affected agencies have an opportunity to comment on information collection and recordkeeping activities [see 5 CFR 1320.8(d)]. This notice identifies information collections that RUS is submitting to OMB for revision. Comments are invited on: (a) Whether this collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on respondents, including through the use of appropriate automated, electronic, mechanical or other technological collection techniques or other forms of information technology.

Comments may be sent by any of the following methods:

• Mail: Thomas P. Dickson, Rural Development Innovation Center, 1400 Independence Avenue SW, STOP 1522, Room 5164, South Building, Washington, DC 20250-1522. Telephone: (202) 690-4492. Email: Thomas.Dickson@wdc.usda.gov.

• Federal eRulemaking Portal: Go to https://www.regulations.gov. Follow the instructions for submitting comments.

Title: Intermediary Relending Program.

OMB Control Number: 0570-0021.

Type of Request: Revision of a currently approved information collection.

Abstract: The regulations contain various requirements for information from the intermediaries, and some requirements may cause the intermediary to seek information from ultimate recipients. The information requested is necessary for RBS to be able to process applications in a responsible manner, make prudent credit and program decisions, and effectively monitor the intermediaries' activities to protect the Government's financial interest and ensure that funds obtained from the Government are used appropriately. It includes information to identify the intermediary; describe the intermediary's experience and expertise; describe how the intermediary will operate its revolving loan fund; provide for debt instruments, loan agreements, and security; and other material necessary for prudent credit decisions and reasonable program monitoring.

Estimate of Burden: Public reporting burden for this collection of information is estimated to average 7.5 hours per response.

Respondents: Non-profit corporations, public agencies, Indian tribes and cooperatives.

Estimated Number of Respondents: 240.

Estimated Number of Responses per Respondent: 13.

Estimated Number of Responses: 3,566.

Estimated Total Annual Burden on Respondents: 24,580 hours.

Copies of this information collection can be obtained from Robin M. Jones, Innovation Center, at (202) 772-1172, Email: robin.m.jones@wdc.usda.gov.

All responses to this notice will be summarized and included in the request for OMB approval. All comments will also become a matter of public record.

Dated: November 26, 2018.
Bette B. Brand,
Administrator, Rural Business—Cooperative Service.

[FR Doc. 2018-26435 Filed 12-4-18; 8:45 am]

BILLING CODE 3410-XY-P